DEPARTMENT OF THE TREASURY

Internal Revenue Service

26 CFR Part 1

Income Taxes

CFR Correction

In Title 26 of the Code of Federal Regulations, Part 1 (§§ 1.170 to 1.300), revised as of April 1, 2017, on page 8, the authority citation for § 1.199-2T is revised to read: “Section 1.199-2T also issued under 26 U.S.C. 199(b)(3).”

[FR Doc. 2017-19396 Filed 9-12-17; 8:45 am]

BILLING CODE 1301-00-D